DEPARTMENT OF COMMERCE

National Oceanic and Atmospheric Administration

50 CFR Part 622

[Docket No. 160426363-7275-02; RTID 0648-XB189]

Coastal Migratory Pelagic Resources of the Gulf of Mexico and Atlantic Region; 2020-2021 Commercial Closure for King Mackerel in the Gulf of Mexico Northern Zone

AGENCY: National Marine Fisheries Service (NMFS), National Oceanic and Atmospheric Administration (NOAA), Commerce.

ACTION: Temporary rule; closure.

SUMMARY: NMFS implements an accountability measure (AM) for commercial king mackerel in the northern zone of the Gulf of Mexico (Gulf) exclusive economic zone (EEZ). NMFS projects that the commercial quota for king mackerel in the northern zone of the Gulf EEZ has been reached. Therefore, NMFS closes the northern zone of the Gulf EEZ to commercial king mackerel fishing on June 28, 2021. This closure is necessary to protect the Gulf king mackerel resource.

DATES: The closure is effective at 12:01 a.m., local time, June 28, 2021, until October 1, 2021.

FOR FURTHER INFORMATION CONTACT: Kelli O'Donnell, NMFS Southeast Regional Office, telephone: 727-824-5305, email: kelli.odonnell@noaa.gov.

SUPPLEMENTARY INFORMATION: The fishery for coastal migratory pelagic fish in the Gulf includes king mackerel, Spanish mackerel, and cobia in the Gulf and on the east coast of Florida, and is managed under the Fishery Management Plan for the Coastal Migratory Pelagic Resources of the Gulf of Mexico and Atlantic Region (FMP). The FMP was prepared by the Gulf of Mexico and South Atlantic Fishery Management Councils. The FMP is implemented by NMFS under the authority of the Magnuson-Stevens Fishery Conservation and Management Act (Magnuson-Stevens Act) by regulations at 50 CFR part 622. All weights described for king mackerel in the Gulf EEZ apply as either round or gutted weight.

The commercial annual catch limit (equal to the commercial quota) for the Gulf migratory group of king mackerel (Gulf king mackerel) is 2.74 million lb (1.24 million kg). Commercial fishing for Gulf king mackerel is divided into multiple zones for management purposes. The commercial quota for Gulf king mackerel in the northern zone is 493,200 lb (223,712 kg) for the current fishing year, October 1, 2020, through September 30, 2021 (50 CFR 622.384(b)(1)(ii)).

The northern zone for Gulf king mackerel is located in the EEZ between a line at 87°31.6′ W longitude, which is a line extending due south of the state boundary of Alabama and Florida, and a line at 26°19.48′ N latitude, which is a line extending due west from the boundary of Lee and Collier Counties in southwest Florida 50 CFR 622.369(a)(1)(ii).

Regulations at 50 CFR 622.388(a)(1)(i) require NMFS to close the commercial sector for Gulf king mackerel in the northern zone when the commercial quota is reached, or is projected to be reached, by filing a notification to that effect with the Office of the Federal Register. NMFS has determined the commercial quota for Gulf king mackerel in the northern zone has been reached. Accordingly, NMFS closes the northern zone to commercial fishing for Gulf king mackerel effective from 12:01 a.m., local time, on June 28, 2021, 2021, through September 30, 2021, the end of the current fishing year.

During the closure, a person on board a vessel that has been issued a valid Federal commercial or charter vessel/headboat permit for coastal migratory pelagic fish may continue to retain the king mackerel in the northern zone under the recreational bag and possession limits specified in 50 CFR 622.382(a)(1)(ii) and (a)(2), as long as the recreational sector for Gulf king mackerel in the northern zone is open (50 CFR 622.384(e)(1)).

Also during the closure, Gulf king mackerel from the closed zone, including those harvested under the bag and possession limits, may not be purchased or sold. This prohibition does not apply to king mackerel from the closed zone that were harvested, landed ashore, and sold prior to the closure and were held in cold storage by a dealer or processor (50 CFR 622.384(e)(2)).

Classification

NMFS issues this action pursuant to section 305(d) of the Magnuson-Stevens Act. This action is required by 50 CFR 622.384(e) and 622.388(a)(1)(i), which were issued pursuant to section 304(b) of the Magnuson-Stevens Act, and is exempt from review under Executive Order 12866.

Pursuant to 5 U.S.C. 553(b)(B), there is good cause to waive prior notice and an opportunity for public comment on this action, as notice and comment are unnecessary and contrary to the public interest. Such procedures are unnecessary because the rule implementing the commercial quota and the associated AM has already been subject to notice and public comment, and all that remains is to notify the public of the closure. Such procedures are also contrary to the public interest because of the need to immediately implement the closure to protect the Gulf king mackerel stock. The capacity of the fishing fleet allows for rapid harvest of the commercial quota and the quota has already been met. Prior notice and opportunity for public comment would require time and could result in additional harvest.

For the aforementioned reasons, there is good cause to waive the 30-day delay in the effectiveness of this action under 5 U.S.C. 553(d)(3).

Authority: 16 U.S.C. 1801 et seq.

Dated: June 23, 2021.
Jennifer M. Wallace,
Acting Director, Office of Sustainable Fisheries, National Marine Fisheries Service.

[FR Doc. 2021-13761 Filed 6-25-21; 8:45 am]

BILLING CODE 3510-22-P